DEPARTMENT OF COMMERCE

National Institute of Standards and Technology

Jointly Owned Inventions Available for Non-Exclusive, Royalty-Free Licensing

AGENCY: National Institute of Standards and Technology, Commerce.

ACTION: Notice of Jointly Owned Inventions Available for Non-Exclusive, Royalty-Free Licensing.

SUMMARY: The inventions listed below are jointly owned by the U.S. Government, as represented by the Department of Commerce, and the University of Colorado. The Department of Commerce's interest in the inventions is available for non-exclusive, royalty-free licensing, in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number or Patent number and title for the invention as indicated below.

The inventions available for licensing are:

[Patent Number 6,831,522 Issued: 12/14/2004]

Title: Method of Minimizing the Short-Term Frequency Instability of Laser-Pumped Atomic Clocks.

Abstract: A method is provided for optimizing the performance of laser-pumped atomic frequency references with respect to the laser detuning and other operating parameters. This method is based on the new understanding that the frequency references short-term instability is minimized when (a) the laser frequency is tuned nominally a few tens of MHz away from the center of the atomic absorption line, and (b) the external oscillator lock modulation frequency is set either far below or far above the inverse of the optical pumping time of the atoms.

[Patent Number: 6,806,784 Issued: 10/19/2004]

Title: Miniature Frequency Standard Based on All-Optical Excitation and a Micromachined Containment Vessel.

Abstract: A microwave frequency standard is provided which allows for miniaturization down to length scales of order one micron, comprising a modulated light field originating from a laser that illuminates a collection of quantum absorbers contained in a micro-machined cell. The frequency standard of the present invention can be based on all-optical excitation techniques such as coherent population trapping (CPT) and stimulated Raman scattering or on conventional microwave-excited designs. In a CPT-based embodiment, a photodetector detects a change in transmitted power through the cell and that is used to stabilize an external oscillator to correspond to the absorber's transition frequency by locking the laser modulation frequency to the transition frequency. In a stimulated Raman scattering (SRS) embodiment, a high-speed photodetector detects a laser field transmitted through the cell beating with a second field originating in the cell. Both the locked laser modulation frequency and the beat frequency are very stable as they are referenced directly to the atomic transition.

Dated: May 18, 2006.
Hratch G. Semerjian,
Deputy Director.

[FR Doc. E6-8154 Filed 5-25-06; 8:45 am]

BILLING CODE 3510-13-P